DEPARTMENT OF TRANSPORTATION

Research and Special Programs Administration

International Standards on the Transport of Dangerous Goods; Public Meetings

AGENCY: Research and Special Programs Administration (RSPA), Department of Transportation.

ACTION: Notice of public meetings.

SUMMARY: This notice is to advise interested persons that RSPA will conduct public meetings in preparation for and to report the results of the twenty-first session of the United Nation's Sub-Committee on Experts on the Transport of Dangerous Goods (UNSCOE) to be held July 1-10, 2002 in Geneva, Switzerland.

DATES: June 18, 2002 1-3:30 pm, Room 6244-6248, July 24, 2002, 9:30 am-12:30 pm, Room 3328.

ADDRESSES: Both meetings will be held at DOT Headquarters, Nassif Building, 400 Seventh Street SW., Washington, DC 20590.

FOR FURTHER INFORMATION CONTACT: Bob Richard, International Standards Coordinator, Office of Hazardous Materials Safety, Office of Hazardous Materials Safety, Department of Transportation, Washington, DC 20590; (202) 366-0656.

SUPPLEMENTARY INFORMATION: The primary purpose of the first meeting will be to prepare for the twenty-first session of the UNSCOE and to discuss U.S. positions on UNSCOE proposals. The primary purpose of the second meeting will to be provide a briefing on the outcome of the UNSCOE session. Topics to be covered during the public meetings include: (1) Criteria for Environmentally Hazardous Substances, (2) Requirements for the transport of solids in bulk containers including portable tanks, (3) Harmonized requirements for compressed gas cylinders, (4) Classification of individual substances, (5) Requirements for packagings used to transport hazardous materials including a US proposal to require a vibration test, (6) Requirements for infectious substances and genetically modified micro-organisms, (7) Hazard communication requirements including the comprehensibility for the proposed Globally Harmonized System labels, (8) emergency response requirements and (9) Requirements applicable to small quantities of hazardous materials in transport (consumer commodities).

The public is invited to attend without prior notification. Due to the heightened security measures participants are encouraged to arrive early to allow time for security checks necessary to obtain access to the building.

Documents

Copies of documents for the UNSCOE meeting and the meeting agenda may be obtained by downloading them from the United Nations Transport Division's web site at http://www.unece.org/trans/main/dgdb/dgsubc/c32002.html. This site may also be accessed through RSPA's Hazardous Materials Safety Homepage at http://hazmat.dot.gov/intstandards.htm. RSPA's site provides information regarding the UNSCOE and related matters such as a summary of decisions taken at the twentieth session of the UNSCOE.

Issued in Washington, DC, on April 24, 2002.
Frits Wybenga,
Deputy Associate Administrator for Hazardous Materials Safety.

[FR Doc. 02-10573 Filed 4-29-02; 8:45 am]

BILLING CODE 4910-60-M